FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011527-007.

Title: Independent Carriers Alliance.

Parties: CMA CGM, S.A., Hanjin Shipping Co., Ltd., Montemar Maritima S.A., Zim Israel Navigation Company Ltd.

Synopsis: The subject modifications provide for the resignation of Senator Lines and the assumption of its rights and obligations under the Agreement by Hanjin Shipping Co., Ltd.

Agreement No.: 011695-005.

Title: CMA CGM/Norasia Reciprocal Space Charter, Sailing and Cooperative Working Agreement.

Parties: CMA CGM, S.A., Norasia Container Lines Ltd.

Synopsis: The proposed amendment reduces the number of vessels to be deployed under the agreement from 12 to 5 and revises the slot allocations accordingly, includes a reference to available space under another agreement, extends the earliest date for notice of withdrawal, and revises the notice period for and the earliest termination date of the agreement The parties request expedited review.

Agreement No.: 011712-003.

Title: CMA CGM/CSG Slot Exchange, Sailing and Cooperative Working Agreement.

Parties: CMA CGM, S.A., China Shipping Container Lines Co., Ltd.

Synopsis: The proposed amendment reduces the number of vessels to be deployed under the agreement from 22 to 10. The parties request expedited review.

Agreement No.: 011737-009.

Title: The MCA Agreement.

Parties: Atlantic Container Line AB; Alianca Navegacao e Logistica LTDA; A.P. Moller-Maersk Sealand; Antillean Marine Shipping Corporation; CMA CGM, S.A.; Companhia Libra De Navegacao; Compania Sud Americana De Vapores S.A.; CP Ships (UK) Limited, d/b/a ANZDL and d/b/a Contship Containerlines; Crowley Liner Services, Inc.; Hamburg-Sud; Dole Ocean Cargo Express, Inc.; Great White Fleet (US) Ltd.; Hapag-Lloyd Container Linie GmbH; King Ocean Central America S.A.; King Ocean Service De Colombia S.A.; King Ocean Service De Venezuela S.A.; Lykes Lines Limited, LLC; Montemar Maritima S.A.; Network Shipping Ltd.; Nippon Yusen Kaisha; Norasia Container Line Limited; P&O Nedlloyd Limited; Safmarine Container Lines N.V.; TMM Lines Limited, LLC; Tropical Shipping & Construction Co., Ltd.; and Wallenius Wilhelmsen Lines AS.

Synopsis: The subject modifications adds Great White Fleet and Network Shipping as members and deletes Tecmarine as a member. It also adds a provision for the payment of annual dues.

Agreement No.: 011833.

Title: Contship/WWL Space Charter Agreement.

Parties: Contship Containerlines, Wallenius Wilhelmsen Lines AS.

Synopsis: The agreement authorizes Contship to charter space to WWL on vessels utilized by Contship in the trade from United States Atlantic and Gulf Coasts to Australia and New Zealand.

By Order of the Federal Maritime Commission.
Dated: November 22, 2002.
Bryant L. VanBrakle,
Secretary.

[FR Doc. 02-30150 Filed 11-26-02; 8:45 am]

BILLING CODE 6730-01-P